DEPARTMENT OF COMMERCE

International Trade Administration

[A 588-707]

Granular Polytetrafluoroethylene Resin from Japan: Notice of Rescission of Antidumping Duty Administrative Review

AGENCY: Import Administration, International Trade Administration, Department of Commerce.

SUMMARY: On May 10, 2005, the Department of Commerce published a notice of intent to rescind an administrative review of the antidumping duty order on granular polytetrafluoroetheylene resin from Japan for the period August 1, 2003, through July 31, 2004. The Department did not receive any comments or requests for a public hearing in response to this notice, and we are rescinding this administrative review, pursuant to 19 CFR 351.213(d).

EFFECTIVE DATE: August 1, 2005.

FOR FURTHER INFORMATION CONTACT: Dunyako Ahmadu at (202) 482-0198 or Richard Rimlinger at (202) 482-4477, AD/CVD Operations, Office 5, Import Administration, International Trade Administration, U.S. Department of Commerce, 14th Street and Constitution Avenue, NW., Washington, DC 20230.

SUPPLEMENTARY INFORMATION:

Background

On August 28, 1988, the Department of Commerce (the Department) published the antidumping duty order for granular polytetrafluroetheylene (PTFE) resin from Japan. See Antidumping Duty Order; Granular Polytetrafluoroethylene Resin from Japan, 53 FR 32267 (August 28, 1988). On August 3, 2004, we published a notice of opportunity to request an administrative review of this order for the period August 1, 2003, through July 31, 2004. See Notice of Opportunity to Request Administrative Review of Antidumping Duty Order, Finding or Suspended Investigation, 69 FR 46496 (August 3, 2004). On August 30, 2004, Asahi Glass Fluoropolymers Ltd., a Japanese producer and exporter of the subject merchandise, and AGC Chemicals America, an affiliated U.S. importer of subject merchandise (collectively AGC), made a timely request that the Department conduct an administrative review of AGC. On September 22, 2004, in accordance with section 751(a) of the Tariff Act of 1930, as amended (the Act), the Department published in the Federal Register a notice of initiation of this antidumping duty administrative review. See Notice of Initiation of Antidumping Duty and Countervailing Duty Administrative Reviews and Request for Revocation in Part, 69 FR 56745 (September 22, 2004). On October 8, 2004, the Department issued its antidumping duty questionnaire to AGC.

On November 2, 2004, AGC submitted a letter to the Department indicating that it did not have any shipments or entries of subject merchandise during the period of review but had one U.S. sale of PTFE resin during the period of review. As a result, on November 29, 2004, the Department issued a memorandum recommending rescission of the 2003-2004 administrative review and invited interested parties to comment. See Memorandum to Barbara E. Tillman, Acting Deputy Assistant Secretary dated November 29, 2004, (November 29 Memorandum). On December 10, 2004, AGC submitted comments in disagreement with the recommendation in the November 29 Memorandum. AGC argued that the Department does not have an established practice of conditioning an administrative review on the existence of entries during the period of review and that the Department's interpretation of 19 CFR 351.213(e) in this instance is inconsistent with the plain meaning of the regulation. AGC also argued that because no review of AGC's sales has occurred since the imposition of the antidumping duty order on August 28, 1988, the 2003-2004 administrative review would determine a more accurate deposit rate and, therefore, the Department should not rescind the administrative review.

On May 10, 2005, the Department published a notice of intent to rescind the 2003-2004 review and invited interested parties to request a hearing or submit case briefs within 20 days of its publication. See Granular Polytetrafluoroethylene Resin from Japan: Notice of Intent to Rescind Antidumping Duty Administrative Review, 70 FR 24510 (May 10, 2005). We received no requests for a hearing or submissions of case briefs.

Rescission of Administrative Review

Pursuant to 19 CFR 351.213(d)(3), the Department will rescind an administrative review in whole or only with respect to a particular exporter or producer if we conclude that during the period of review there were “no entries, exports, or sales of the subject merchandise.” Contrary to AGC's arguments, the Department's practice, supported by substantial precedent, requires that there be entries during the period of review upon which to assess antidumping duties, irrespective of the export-price or constructed export-price designation of U.S. sales. See, e.g., Stainless Steel Plate in Coils from Taiwan: Final Rescission of Antidumping Duty Administrative Review, 68 FR 63067 (November 7, 2003); Stainless Steel Plate in Coils From Taiwan: Final Rescission of Antidumping Duty Administrative Review, 69 FR 20859 (April 19, 2004).

Given that AGC had no entries of subject merchandise during the period of review and that AGC has no entry under suspension of liquidation that corresponds to the sale which occurred during the period of review, we would be unable to assess any antidumping duties resulting from this administrative review. See November 29 Memorandum. Accordingly, we are rescinding the 2003-2004 administrative review of PTFE resin from Japan pursuant to 19 CFR 351.213(d)(3).

This notice is published in accordance with section 777(i) of the Act and 19 CFR 351.213(d)(4).

Dated: July 22, 2005.
Joseph A. Spetrini,
Acting Assistant Secretary for Import Administration.

[FR Doc. E5-4073 Filed 7-29-05; 8:45 am]

BILLING CODE 3510-DS-S